DEPARTMENT OF THE INTERIOR

Bureau of Land Management

[LLUT-92000-09-L13200000-EL0000-24-1A00, UTU-84102]

Notice of the Availability of the Greens Hollow, Federal Coal Lease Application Environmental Assessment and Notice of Public Hearing

AGENCY: Bureau of Land Management, Interior.

ACTION: Notice.

SUMMARY: The Bureau of Land Management (BLM) will hold a public meeting on the proposed sale, adequacy of the Environmental Impact Statement (EIS), Fair Market Value determination and Maximum Economic Recovery consideration for coal lease application UTU-84102. The BLM is in the process of completing the EIS that will address the environmental impacts of mining this tract. The lands included in the delineated Federal coal lease tract (“Greens Hollow”) are located in Sanpete and Sevier counties. The public is invited to the meeting to make public and/or written comments on the environmental implications of leasing the proposed tract, and also to submit comments on the Fair Market Value and the Maximum Economic Recovery of the tract.

DATES: The meeting will be held May 6, 2009 at 7 p.m. in the auditorium of North Sevier High School, 350 West 400 North, Salina, Utah.

FOR FURTHER INFORMATION CONTACT: Written comments on the Fair Market Value and Maximum Economic Recovery must be received by May 5, 2009 and should be addressed to Stan Perkes, 801-539-4036, Bureau of Land Management, Utah State Office, Division of Lands and Minerals, P.O. Box 45155, Salt Lake City, Utah 84145 or e-mail to Stan_Perkes@blm.gov. Information on the Decision Notice/Finding of No Significant Impact can be obtained by contacting Mr. Steve Rigby, 435-636-3604. Written comments concerning the environmental impact statement must be submitted by close of business on May 18, 2009 to the Price Field Office, 125 South 600 West, Price, Utah 84501.

SUPPLEMENTARY INFORMATION: The lands included in the delineated Federal coal lease tract (“Greens Hollow”) are located in Sanpete and Sevier Counties, Utah approximately ten and one-half air miles west of Emery Utah on Manti-LaSal and Fishlake National Forest-administered surface with federally-administered minerals and are described as follows:

T. 20 S., R. 4 E., SLM, Sevier County, Utah

Sec. 36, lot 4, E½NE¼, NE¼SE¼;

T. 21 S., R. 4 E., SLM, Sevier County, Utah

Sec. 1, all;

Sec. 2, SE¼;

Sec. 11, E½, E½W½;

Sec. 12, NE¼, W½, W½SE¼;

Sec. 13, W½NE¼, NW¼;

Sec. 14, NE¼, E½NW¼;

T. 20 S., R. 5 E., SLM, Sanpete and Sevier Counties, Utah

Sec. 19, lots 5-8, E½SW¼, SE¼;

Sec. 20, S½;

Sec. 21, W½SW¼;

Sec. 28, W½;

Sec. 29, all;

Sec. 30, all;

Sec. 31, all;

Sec. 32, N½, N½S½;

Sec. 33, NW¼NW¼;

T. 21 S., R. 5 E., SLM, Sevier County, Utah

Sec. 6, all.

Approximately 6,175.39 acres.

Ark Land Company submitted the application for the coal lease. The company plans to mine the coal as an extension from their existing SUFCO Mine, if the lease is obtained. The Greens Hollow coal tract has two minable coal beds; the Upper Hiawatha and the Lower Hiawatha seam beds. The minable portions of the coal beds in this area are around eleven feet in thickness. The tract contains approximately 109,700,000 tons of coal reserve base of high-volatile C bituminous coal. The coal quality in the Upper Hiawatha coal bed on an “as received basis” is as follows: 11,565 Btu/lb., 7.46 percent moisture, 9.81 percent ash, 36.55 percent volatile matter, 46.1 percent fixed carbon and 0.55 percent sulfur. The coal quality in the Lower Hiawatha coal bed on an “as received basis” is as follows: 11,538 Btu/lb., 7.21 percent moisture, 9.69 percent ash, 38.88 percent volatile matter, 43.85 percent fixed carbon and 1.26 percent sulfur.

In accordance with Federal coal management regulations 43 CFR 3422 and 3425, the public meeting is being held on the proposed sale to allow public comment on and discussion of the potential effects of mining and proposed lease. The meeting is being advertised in the Richfield Reaper located in Richfield, Utah and the Emery County Progress located in Castle Dale, Utah. 43 CFR 3422 states that, no less than 30 days prior to the publication of the notice of the sale, the Secretary shall submit public comments on the Fair Market Value appraisal and the Maximum Economic Recovery and on factors that may affect these two determinations.

Proprietary data marked as confidential may be submitted to the BLM in response to this solicitation of public comments. Data so marked shall be treated in accordance with the laws and regulations governing confidentiality of such information. A copy of the comments submitted by the public on fair market value and maximum economic recovery, except those portions identified as proprietary by the author and meeting exemptions stated in the Freedom of Information Act, will be available for public inspection at the Bureau of Land Management, Utah State Office during regular business hours (8 a.m.-4 p.m.) Monday through Friday. Comments on the Fair Market Value and Maximum Economic Recovery should be sent to the Bureau of Land Management and should address, but not necessarily be limited to the following information:

1. The quality of the coal resource;

2. The mining methods or methods which would achieve maximum economic recovery of the coal, including specifications of seams to be mined and the most desirable timing and rate of production;

3. Whether this tract is likely to be mined as part of an existing mine and therefore should be evaluated on a realistic incremental basis, in relation to the existing mine to which it has the greatest value;

4. Whether the tract should be evaluated as part of a potential larger mining unit and revaluated as a portion of a new potential mine (i.e., a tract which does not in itself form a logical mining unit);

5. Restrictions to mining that may affect coal recovery;

6. The price that the mined coal would bring when sold;

7. Costs, including mining and reclamation, of producing the coal and the time of production;

8. The percentage rate at which anticipated income streams should be discounted, either with inflation or in the absence of inflation, in which case the anticipated rate of inflation should be given;

9. Depreciation, depletion, amortization and other tax accounting factors;

10. The value of any surface estate where held privately;

11. Documented information on the terms and conditions of recent and similar coal land transactions in the lease sale area;

12. Any comparable sales data of similar coal lands; and coal quantities and the Fair Market Value of the coal developed by BLM may or may not change as a result of comments received from the public and changes in the market conditions between now and when final economic evaluations are completed.

Dated: April 6, 2009.
Selma Sierra,
State Director.

[FR Doc. E9-8355 Filed 4-10-09; 8:45 am]

BILLING CODE 4310-DQ-P